DEPARTMENT OF AGRICULTURE

Submission for OMB Review; Comment Request

March 1, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: In-depth Case Studies of Advanced Modernization Initiatives.

OMB Control Number: 0584-0547.

Summary of Collection: The Supplemental Nutrition Assistance Program (SNAP) is a critical source of support for many low-income families and individuals. In recent years, states have implemented new procedures and policies in order to reduce SNAP administrative costs while maintaining or improving program access. These changes often referred to as modernization-incorporate technology, administrative restructuring, community partnering, and policy simplification. Together, the Food, Conservation, and Energy Act of 2008, which amended Section 11 of the Food and Nutrition Act of 2008, 7 U.S.C. 2020, and the Food Nutrition Act of 2008, which amended Section 17 of 7 U.S.C. 2026, authorizes the Food and Nutrition Service (FNS) to develop standards for identifying major operational changes, require States to provide any information required by the U.S. Department of Agriculture, and authorizes FNS to undertake research that will help improve the administration and effectiveness of SNAP.

Need and Use of the Information: Information for the In-depth Case Studies will build on the findings from a previous data collection effort, Enhancing Food Stamp Certification: Food Stamp Modernization Efforts. To obtain a detailed and comprehensive view of the implementation of SNAP modernization initiatives, data will be collected via in-person interviews, focus group discussions, and through administrative case records, application statistics, performance data, and other relevant materials. The project has seven research objectives: (1) Update the existing state profiles of modernization efforts and identify the geographic and caseload coverage affected by modernization changes; (2) describe how key certification, recertification, and case management functions have changed; (3) describe the current roles and responsibilities of state and local SNAP staff, vendors, and partners and how they have changed; (4) document the relationship between SNAP modernization initiatives and stakeholder satisfaction; (5) describe the current performance of each state's modernization initiatives and the level of outcome variability within each state; (6) compare performance before, during, and after modernization; and (7) document the main takeaway points for use by other states and for future study consideration. Without the detailed case study, FNS would need to rely on the states' general statements regarding program operations and aggregate statistics on modernization initiatives, resulting in an incomplete understanding of how modernization has affected the implementation of SNAP.

Description of Respondents: Individual or households; not-for-profit institutions; business or other for-profit; State, Local or Tribal Government.

Number of Respondents: 1,353.

Frequency of Responses: Reporting: Other (one time only)

Total Burden Hours: 1,802.

Ruth Brown,
Departmental Information Collection Clearance Officer.

[FR Doc. 2011-5005 Filed 3-4-11; 8:45 am]

BILLING CODE 3410-30-P